Proclamation 7896 of May 3, 2005

National Day of Prayer, 2005

By the President of the United States of America

A Proclamation

Since our Nation's earliest days, prayer has given strength and comfort to Americans of all faiths. Our Founding Fathers relied on their faith to guide them as they built our democracy. Today, we continue to be inspired by God's blessings, mercy, and boundless love. As we observe this National Day of Prayer, we humbly acknowledge our reliance on the Almighty, express our gratitude for His blessings, and seek His guidance in our daily lives.

Throughout our history, our Nation has turned to prayer for strength and guidance in times of challenge and uncertainty. The Continental Congress, meeting in 1775, asked the colonies to pray for wisdom in forming a new Nation. Throughout the Civil War, President Abraham Lincoln issued exhortations to prayer, calling upon the American people to humble themselves before their Maker and to serve all those in need. At the height of World War II, President Franklin Roosevelt led our citizens in prayer over the radio, asking for God to protect our sons in battle. Today, our Nation prays for those who serve bravely in the United States Armed Forces in difficult missions around the world, and we pray for their families.

Across our country, Americans turn daily to God in reverence. We ask Him to care for all those who suffer or feel helpless, knowing that God sees their needs and calls on us to meet them. As our first President wrote in 1790, “May the father of all mercies scatter light and not darkness in our paths . . .”. As we face the challenges of our times, God's purpose continues to guide us, and we continue to trust in the goodness of His plans.

The Congress by Public Law 100-307, as amended, has called on our citizens to reaffirm the role of prayer in our society and to honor the freedom of religion by recognizing annually a “National Day of Prayer.”

NOW, THEREFORE, I, GEORGE W. BUSH, President of the United States of America, do hereby proclaim May 5, 2005, as a National Day of Prayer. I ask the citizens of our Nation to give thanks, each according to his or her own faith, for the liberty and blessings we have received and for God's continued guidance and protection. I also urge all Americans to join in observing this day with appropriate programs, ceremonies, and activities.

IN WITNESS WHEREOF, I have hereunto set my hand this third day of May, in the year of our Lord two thousand five, and of the Independence of the United States of America the two hundred and twenty-ninth.

B

[FR Doc. 05-9162

Filed 5-4-05; 9:15 am]

Billing code 3195-01-P